NUCLEAR REGULATORY COMMISSION

[Docket No. 72-14]

First Energy; Issuance of Environmental Assessment and Finding of No Significant Impact

The U.S. Nuclear Regulatory Commission (NRC or the Commission) is considering issuance of an exemption, pursuant to 10 CFR 72.7, from the provisions of 10 CFR 72.48 to First Energy. The requested exemption would allow First Energy to implement the amended 10 CFR 72.48 requirements on June 30, 2001, for the Independent Spent Fuel Storage Installation (ISFSI) at the Davis-Besse Nuclear Power Station in Ottawa County, Ohio.

Environmental Assessment (EA)

Identification of Proposed Action: By letter dated April 9, 2001, First Energy requested a scheduler exemption from the implementation date of April 5, 2001, for the revised 10 CFR 72.48. First Energy plans to implement its revised 10 CFR 50.59 and 10 CFR 72.48 programs simultaneously. The planned date for implementing the revised 10 CFR 50.59 requirements is June 30, 2001.

Need for Proposed Action: The applicant wants the implementation date of 10 CFR 50.59 and 10 CFR 72.48 to coincide. The applicant stated in the April 9, 2001, submittal that it is prudent to take a common approach in administering the implementation of 10 CFR 50.59 and 10 CFR 72.48, since there are similarities between the two requirements. Simultaneous implementation of the amended requirements will provide for an orderly transition and alignment of the programs for the revised regulations.

Environmental Impacts of the Proposed Action: There are no significant environmental impacts associated with the proposed action. The new revision of 10 CFR 72.48 is considered less restrictive than the current requirements, with the exception of the additional reporting requirements. Continued implementation of the existing 10 CFR 72.48 until June 30, 2001, is acceptable to the NRC as stated in Regulatory Issues Summary 2001-03 which states that it is the NRC's view that both the old rule and the new rule provide an acceptable level of safety. Extending the current requirements until June 30, 2001, has no significant impact on the environment.

Alternative to the Proposed Action: Since there are no environmental impacts associated with the proposed action, alternatives are not evaluated other than the no action alternative. The alternative to the proposed action would be to deny approval of the scheduler exemption and, therefore, not allow First Energy to implement the revised 10 CFR 72.48 requirements on the desired date, June 30, 2001. However, the environmental impacts of the proposed action and the alternative would be the same.

Agencies and Persons Consulted: On May 10, 2001, Ohio state official, Ms. Carol O'Claire, Radiological Branch Chief, Ohio Emergency Management Agency, was contacted regarding the environmental assessment for the proposed action and had no comment.

Finding of No Significant Impact

The environmental impacts of the proposed action have been reviewed in accordance with the requirements set forth in 10 CFR Part 51. Based upon the foregoing EA, the Commission finds that the proposed action of granting an exemption from 10 CFR 72.48, so that First Energy may implement the amended requirements on June 30, 2001, will not significantly impact the quality of human environment. Accordingly, the Commission has determined that an environmental impact statement for the proposed action is not necessary.

The request for exemption was docketed under 10 CFR Part 72, Docket 72-14. The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by e-mail to pdr@nrc.gov.

Dated at Rockville, Maryland, this 31st day of May 2001.
For the Nuclear Regulatory Commission.
Charles L. Miller,
Deputy Director, Licensing and Inspection Directorate,Spent Fuel Project Office, Office of Nuclear Material Safety and Safeguards.

[FR Doc. 01-14602 Filed 6-8-01; 8:45 am]

BILLING CODE 7590-01-U